COMMITTEE FOR PURCHASE FROM PEOPLE WHO ARE BLIND OR SEVERELY DISABLED

Procurement List; Proposed Additions

AGENCY: Committee for Purchase From People Who Are Blind or Severely Disabled.

ACTION: Proposed additions to procurement list.

SUMMARY: The Committee is proposing to add to the procurement list products and services to be furnished by nonprofit agencies employing persons who are blind or have other severe disabilities.

DATES: Comments must be received on or before March 9, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C. 47(a)(2) and 41 CFR 51-2.3. Its purpose is to provide interested persons an opportunity to submit comments on the possible impact of the proposed actions.

If the Committee approves the proposed additions, the entities of the Federal government identified in the notice for each product or service will be required to procure the products and services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the products and services to the government.

2. If approved, the action will result in authorizing small entities to furnish the products and services to the government.

3. There are no known regulatory alternatives which would accomplish the objectives of the Javits-Wagner-O'Day Act (41 U.S.C. 46-48c) in connection with the products and services proposed for addition to the procurement list. Comments on this certification are invited. Commenters should identify the statement(s) underlying the certification on which they are providing additional information.

The following products and services are proposed for addition to procurement list for production by the nonprofit agencies listed:

Products

Product/NSN: Protective Combat Uniform (Requirements for Natick Only).

8415-00-NSH-0626, Level 1, T-Shirt,

8415-00-NSH-0627, Level 1, Boxer,

8415-00-NSH-0628, Level 1, Long Sleeve Shirt,

8415-00-NSH-0629, Level 1, Pant,

8415-00-NSH-0630, Level 2, Long Sleeve Shirt,

8415-00-NSH-0631, Level 2, Pant.

NPA: Southeastern Kentucky Rehabilitation Industries, Inc., Corbin, Kentucky.

Contract Activity: U.S. Army Robert Morris Acquisition Center, Natick, Massachusetts.

Product/NSN: Protective Combat Uniform (Requirements for Natick Only).

8415-00-NSH-0632, Level 3, Jacket.

NPA: Southside Training Employment Placement Services, Inc., Victoria, Virginia.

Contract Activity: U.S. Army Robert Morris Acquisition Center, Natick, Massachusetts.

Product/NSN: Protective Combat Uniform (Requirements for Natick Only).

8415-00-NSH-0659, Level 4, Windshirt,

8415-00-NSH-0633, Level 5, Soft-shell Jacket,

8415-00-NSH-0634, Level 5, Soft-shell Pant,

8415-00-NSH-0635, Level 6, Wet Weather Jacket,

8415-00-NSH-0636, Level 6, Wet Weather Pant.

NPA: ORC Industries, Inc., La Crosse, Wisconsin.

Contract Activity: U.S. Army Robert Morris Acquisition Center, Natick, Massachusetts.

Product/NSN: Protective Combat Uniform (Requirements for Natick Only).

8415-00-NSH-0637, Level 7, Pant,

8415-00-NSH-0638, Level 7, Vest,

8415-00-NSH-0690, Level 7, Jacket.

NPA: Southeastern Kentucky Rehabilitation Industries, Inc., Corbin, Kentucky.

Contract Activity: U.S. Army Robert Morris Acquisition Center, Natick, Massachusetts.

Services

Service Type/Location: CD-ROM Replication, GPO Program 5545-S; Government Printing Office, Chicago, Illinois.

NPA: Assoc. for the Blind & Visually Impaired & Goodwill Industries of Greater Rochester, Rochester, New York.

Contract Activity: Government Printing Office, Chicago, Illinois.

Service Type/Location: Industrial Supply Store Prime Vendor; Anniston Army Depot, Anniston, Alabama.

NPA: Alabama Industries for the Blind, Talladega, Alabama.

Contract Activity: Anniston Army Depot, Anniston, Alabama.

Service Type/Location: Janitorial/Custodial; Area Maintenance Support Activity (AMSA) #110; New Castle, Pennsylvania.

NPA: Lark Enterprises, Inc., New Castle, Pennsylvania.

Contract Activity: 99th Regional Support Command, Coraopolis, Pennsylvania.

Service Type/Location: Janitorial/Custodial; DuPage Air Traffic Control Tower, West Chicago, Illinois.

NPA: Jewish Vocational Service and Employment Center, Chicago, Illinois.

Contract Activity: Federal Aviation Administration, Des Plaines, Illinois.

Service Type/Location: Paint Prime Vendor; Anniston Army Depot, Anniston, Alabama.

NPA: Alabama Industries for the Blind, Talladega, Alabama.

Contract Activity: Anniston Army Depot, Anniston, Alabama.

Sheryl D. Kennerly,
Director, Information Management.

[FR Doc. 03-3072 Filed 2-6-03; 8:45 am]

BILLING CODE 6353-01-P